DEPARTMENT OF TRANSPORTATION

Federal Aviation Administration

14 CFR Part 97

[Docket No. 30576; Amdt. No. 3241]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 31, 2007. The compliance date for each SIAP, associated Takeoff Minimums, and ODP is specified in the amendatory provisions.

The incorporation by reference of certain publications listed in the regulations is approved by the Director of the Federal Register as of October 31, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums,and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 19, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 Dec 2007

Andalusia/Opp, AL, South Alabama Rgnl at Bill Benton Field, RNAV (GPS) RWY 11, Amdt 1A

Andalusia/Opp, AL, South Alabama Rgnl at Bill Benton Field, RNAV (GPS) RWY 29, Amdt 1B

Centreville, AL, Bibb County, RNAV (GPS) RWY 10, Orig

Centreville, AL, Bibb County, RNAV (GPS) RWY 28, Orig

Centreville, AL, Bibb County, Takeoff Minimums and Obstacle DP, Orig

Clayton, AL, Clayton Municipal, RNAV (GPS) RWY 27, Orig

Clayton, AL, Clayton Municipal, VOR/DME RWY 27, Amdt 2

Eufaula, AL, Weedon Field, RNAV (GPS) RWY 18, Orig

Eufaula, AL, Weedon Field, RNAV (GPS) RWY 36, Orig

Eufaula, AL, Weedon Field, VOR RWY 18, Amdt 8

Eufaula, AL, Weedon Field, VOR/DME RWY 36, Amdt 3

Monroeville, AL, Monroe County, RNAV (GPS) RWY 3, Orig

Monroeville, AL, Monroe County, RNAV (GPS) RWY 21, Orig

Monroeville, AL, Monroe County, VOR RWY 3, Amdt 9

Monroeville, AL, Monroe County, VOR RWY 21, Amdt 9

Monroeville, AL, Monroe County, Takeoff Minimums and Obstacle DP, Orig

Tuscaloosa, AL, Tuscaloosa Regional, Takeoff Minimums and Obstacle DP, Amdt 2

Byron, CA, Byron, RNAV (GPS) RWY 30, Orig-A

Sandersville, GA, Kaolin Field, RNAV (GPS) RWY 12, Amdt 1

Sandersville, GA, Kaolin Field, RNAV (GPS) RWY 30, Amdt 1

Sandersville, GA, Kaolin Field, NDB RWY 12, Amdt 1

Sandersville, GA, Kaolin Field, VOR/DME-A, Amdt 6

Vidalia, GA, Vidalia Regional, ILS OR LOC/NDB RWY 24, Amdt 1

Vidalia, GA, Vidalia Regional, Takeoff Minimums and Obstacle DP, Orig

Chicago, IL, Lansing Muni, RNAV (GPS) RWY 36, Orig

Chicago, IL, Lansing Muni, LOC RWY 36, Orig

Chicago/West Chicago, IL, Dupage, RNAV (GPS) RWY 20R, Orig

Chicago/West Chicago, IL, Dupage, Takeoff Minimums and Obstacle DP, Orig

Lafayette, IN, Purdue University, VOR-A, Amdt 26

Prestonburg, KY, Big Sandy Regional, RNAV (GPS) RWY 21, Amdt 1A

Bad Axe, MI, Huron County Memorial, RNAV (GPS) RWY 4, Orig

Bad Axe, MI, Huron County Memorial, RNAV (GPS) RWY 22, Orig

Bad Axe, MI, Huron County Memorial, VOR RWY 4, Amdt 11

Bad Axe, MI, Huron County Memorial, VOR RWY 22, Amdt 10

Bad Axe, MI, Huron County Memorial, Takeoff Minimums and Obstacle DP, Amdt 4

Detroit, MI, Willow Run, Takeoff Minimums and Obstacle DP, Amdt 9

Natchez, MS, Hardy-Anders Fld Natchez-Adams County, ILS OR LOC RWY 13, Amdt 1

Natchez, MS, Hardy-Anders Fld Natchez-Adams County, RNAV (GPS) RWY 13, Orig

Natchez, MS, Hardy-Anders Fld Natchez-Adams County, RNAV (GPS) RWY 18, Orig

Natchez, MS, Hardy-Anders Fld Natchez-Adams County, RNAV (GPS) RWY 31, Orig

Natchez, MS, Hardy-Anders Fld Natchez-Adams County, RNAV (GPS) RWY 36, Orig

Natchez, MS, Hardy-Anders Fld Natchez-Adams County, VOR/DME RWY 13, Amdt 3

Natchez, MS, Hardy-Anders Fld Natchez-Adams County, NDB OR GPS RWY 18, Amdt 4C, CANCELLED

Natchez, MS, Hardy-Anders Fld Natchez-Adams County, Takeoff Minimums and Obstacle DP, Orig

Rutherfordton, NC, Rutherford Co/Marchman Field, RNAV (GPS) RWY 1, Orig

Rutherfordton, NC, Rutherford Co/Marchman Field, LOC RWY 1, Amdt 2

Rutherfordton, NC, Rutherford Co/Marchman Field, GPS RWY 1, Amdt 1, CANCELLED

Rutherfordton, NC, Rutherford Co/Marchman Field, Takeoff Minimums and Obstacle DP, Amdt 2

Reno, NV, Reno/Tahoe Intl, Takeoff Minimums and Obstacle DP, Amdt 4

Dayton, OH, Greene County-Lewis A Jackson Regional, RNAV (GPS) RWY 7, Orig-A

Dayton, OH, Greene County-Lewis A Jackson Regional, RNAV (GPS) RWY 25, Orig-A

Kent, OH, Kent State Univ, RNAV (GPS) RWY 1, Amdt 1A

Kent, OH, Kent State Univ, RNAV (GPS) RWY 19, Amdt 1A

Mount Joy/Marietta, PA, Donegal Springs Airpark, RNAV (GPS) RWY 28, Orig

Mount Joy/Marietta, PA, Donegal Springs Airpark, VOR RWY 28, Amdt 1

Mount Joy/Marietta, PA, Donegal Springs Airpark, Takeoff Minimums and Obstacle DP, Amdt 2

Pottstown, PA, Pottstown Muni, Takeoff Minimums and Obstacle DP, Amdt 2

Shelbyville, TN, Bomar Field-Shelbyville Muni, VOR/DME RWY 18, Amdt 5

Trenton, TN, Gibson County, NDB OR GPS RWY 19, Amdt 4, CANCELLED

Abilene, TX, Abilene Regional, Takeoff Minimums and Obstacle DP, Amdt 2

Richmond/Ashland, VA, Hanover County Muni, LOC RWY 16, Amdt 3

Seattle, WA, Seattle-Tacoma Intl, VOR/DME RWY 34C, Orig

Seattle, WA, Seattle-Tacoma Intl, VOR RWY 34C/R, Amdt 9C, CANCELLED

Jackson, WY, Jackson Hole, ILS OR LOC Y RWY 19, Orig

Jackson, WY, Jackson Hole, ILS OR LOC RWY 19, Amdt 9, CANCELLED

Effective 14 Feb 2008

Detroit, MI, Willow Run, RNAV (GPS) RWY 32, Orig, CANCELLED

Philadelphia, PA, Northeast Philadelphia, Takeoff Minimums and Obstacle DP, Orig

The FAA published the following Amendment in Docket No. 30574 Amdt. No. 3239 to Part 97 of the Federal Aviation Regulations (Vol. 72, FR No. 199, Page 58510, dated October 16, 2007) under Section 97.23 effective 22 November 2007, that is currently published and is hereby rescinded as effective for 22 November 2007:

Hyannis, MA, Barnstable Muni-Boardman/Polando Field, VOR RWY 6, Amdt 9

[FR Doc. E7-21134 Filed 10-30-07; 8:45 am]

BILLING CODE 4910-13-P